INTERNATIONAL TRADE COMMISSION

[Investigation Nos. 731-TA-385 and 386 (Second Review)]

Granular Polytetrafluoroethylene Resin From Italy and Japan

Determinations

On the basis of the record ¹ developed in these subject five-year reviews, the United States International Trade Commission (Commission) determines, pursuant to section 751(c) of the Tariff Act of 1930 (19 U.S.C. 1675(c)) (the Act), that revocation of the antidumping duty orders on granular polytetrafluoroethylene resin from Italy and Japan would be likely to lead to continuation or recurrence of material injury to an industry in the United States within a reasonably foreseeable time.²

¹ The record is defined in sec. 207.2(f) of the Commission's Rules of Practice and Procedure (19 CFR 207.2(f)).

² Vice Chairman Deanna Tanner Okun and Commissioner Daniel R. Pearson dissent with regard to the determination concerning Japan.

Background

On December 1, 2004, the Commission determined that responses to its notice of institution of the subject five-year reviews were such that full reviews pursuant to section 751(c)(5) of the Act should proceed (69 FR 69954, December 1, 2004). Notice of the scheduling of the Commission's reviews and of a public hearing to be held in connection therewith was given by posting copies of the notice in the Office of the Secretary, U.S. International Trade Commission, Washington, DC, and by publishing the notice in the Federal Register on May 4, 2005 (70 FR 24613). The hearing was held in Washington, DC, on October 25, 2005, and all persons who requested the opportunity were permitted to appear in person or by counsel.

The Commission transmitted its determinations in these reviews to the Secretary of Commerce on December 13, 2005. The views of the Commission are contained in USITC Publication 3823 (December 2005), entitled Granular Polytetrafluoroethylene Resin from Italy and Japan: Investigation Nos. 731-TA-385 and 386 (Second Review).

Issued: December 2, 2005.
By order of the Commission.
Marilyn R. Abbott,
Secretary to the Commission.

[FR Doc. E5-7024 Filed 12-7-05; 8:45 am]

BILLING CODE 7020-02-P